ENVIRONMENTAL PROTECTION AGENCY

40 CFR Part 271

[EPA-R05-RCRA-2008-0712; FRL-8744-9]

Wisconsin: Final Authorization of State Hazardous Waste Management Program Revision

AGENCY: Environmental Protection Agency (EPA).

ACTION: Proposed rule.

SUMMARY: Wisconsin has applied to EPA for final authorization of the changes to its hazardous waste program under the Resource Conservation and Recovery Act (RCRA). EPA has reviewed Wisconsin's application and has preliminarily determined that these changes satisfy all requirements needed to qualify for final authorization, and is proposing to authorize the State's changes. This proposal authorizes Wisconsin for new regulations which they have not been previously authorized for.

DATES: Comments on this proposed rule must be received on or before December 26, 2008.

ADDRESSES: Submit your comments, identified by Docket ID No. EPA-R05-RCRA-2008-0712 by one of the following methods: http://www.regulations.gov: Follow the online instructions for submitting comments.

E-mail: gromnicki.jean@epa.gov.

Mail: Jean Gromnicki, Wisconsin Regulatory Specialist, LR-8J, U.S. EPA, Region 5, 77 West Jackson Boulevard, Chicago, Illinois 60604.

Instructions: Direct your comments to Docket ID Number EPA-R05-RCRA-2008-0712. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket, visit the EPA Docket Center homepage at http://www.epagov/epahome/dockets.htm.

Docket: All documents in the docket are listed in the www.regulations.gov index. Although listed in the index, some of the information is not publicly available, e.g., CBI or other information whose disclosure is restricted by statute. Certain other material, such as copyrighted material, will be publicly available only in hard copy. Publicly available docket materials are available either electronically in http://www.regulations.gov or in hard copy. You may view and copy Wisconsin's application from 9 a.m. to 4 p.m. at the following addresses: U.S. EPA, Region 5, LR-8J, 77 West Jackson Boulevard, Chicago, Illinois, contact: Jean Gromnicki (312) 886-6162; or Wisconsin Department of Natural Resources, 101 S. Webster Street, Madison, Wisconsin, contact: Patricia Chabot (608) 264-6015.

FOR FURTHER INFORMATION CONTACT: Jean Gromnicki, Wisconsin Regulatory Specialist, U.S. EPA, Region 5, LR-8J, 77 West Jackson Boulevard, Chicago, Illinois 60604, (312) 886-6162, e-mail gromnicki.jean@epa.gov.

SUPPLEMENTARY INFORMATION:

A. Why Are Revisions to State Programs Necessary?

States which have received final authorization from EPA under RCRA Section 3006(b), 42 U.S.C. 6926(b), must maintain a hazardous waste program that is equivalent to, consistent with, and no less stringent than, the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Wisconsin's application to revise its authorized program meets all of the statutory and regulatory requirements established by RCRA. Therefore, we propose to grant Wisconsin final authorization to operate its hazardous waste program with the changes described in the authorization application. Wisconsin has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Wisconsin, including issuing permits, until the State is granted authorization to do so.

C. What Is the Effect of This Authorization Decision?

The effect of this decision is that a facility in Wisconsin subject to RCRA will now have to comply with the authorized State requirements instead of the equivalent Federal requirements in order to comply with RCRA. Wisconsin has enforcement responsibilities under its State hazardous waste program for violations of such program, but EPA retains its authority under RCRA sections 3007, 3008, 3013, and 7003, which include, among others, authority to:

1. Do inspections, and require monitoring, tests, analyses or reports.

2. Enforce RCRA requirements and suspend or revoke permits.

3. Take enforcement actions regardless of whether the State has taken its own actions.

This action does not impose additional requirements on the regulated community because the regulations for which Wisconsin is being authorized by today's action are already effective, and are not changed by today's action.

D. What Happens If EPA Receives Comments That Oppose This Action?

If EPA receives comments that oppose this authorization, we will address all public comments in a later Federal Register. You may not have another opportunity to comment. If you want to comment on this authorization, you must do so at this time.

E. What Has Wisconsin Previously Been Authorized for?

Wisconsin initially received final authorization on January 30, 1986, effective January 31, 1986 (51 FR 3783) to implement the RCRA hazardous waste management program. We granted authorization for changes to their program on May 23, 1989, effective June 6, 1989 (54 FR 15029), on November 22, 1989, effective January 22, 1990 (54 FR 48243), on April 24, 1992, effective April 24, 1992 (57 FR 15029), on June 2, 1993, effective August 2, 1993 (58 FR 31344), on August 4, 1994, effective October 4, 1994 (59 FR 39971), on August 5, 1999, effective October 4, 1999 (64 FR 42630), and on June 26, 2002, effective June 26, 2002 (67 FR 43002).

F. What Changes Are We Authorizing With This Action?

On April 29, 2008, Wisconsin submitted a final complete program revision application, seeking authorization of their changes in accordance with 40 CFR 271.21. We now make a final decision, subject to receipt of written comments that oppose this action, that Wisconsin's hazardous waste program revision satisfies all of the requirements necessary to qualify for final authorization. Therefore, we propose to grant Wisconsin final authorization for the following program changes:

Table 1—Wisconsin's Analogs to the Federal Requirements
Description of Federal Requirement (include checklist #, if relevant) | Federal Register date and page (and/or RCRA statutory authority) | Analogous state authority
Technical Amendments to the Universal Treatment Standards and Treatment Standards for Organic Toxicity Characteristic Wastes and Newly Listed Waste; Checklist 137.1 | January 3, 1995; 60 FR 242 | NR 660.30, 660.31, 660.32, 660.33, 661.02, 664.0001, 665.0001, 266.023, 266.100, 266 Appendix XIII, NR 668.01, 668.02, 668.07, 668.09, 668.38, 668.40, 668.41, 668.42, 668.43, 668.45, 668.46, 668.48, 668 Appendix IV, 668 Appendix V, 668 Appendix X; Effective August 1, 2006.
Hazardous Waste Management System; Carbamate Production Identification and Listing of Hazardous Waste; and CERCLA Hazardous Substance Designation and Reportable Quantities; Correction; Checklist 140.1 | April 17, 1995; 60 FR 19165 | NR 661.03, 661.32, 661.33, 661 Appendix VII, 661 Appendix VIII; Effective August 1, 2006.
As amended; Checklist 140.2 | May 12, 1995; 60 FR 25619 |
Land Disposal Restrictions Phase III-Decharacterized Wastewaters, Carbamate Wastes and Spent Potliners; Checklist 151.1 | April 8, 1996; 61 FR 15660 | NR 668.01, 668.02, 668.03, 668.07, 668.08, 668.09, 668.39, 668.40, 668.42, 668.44, 668.48, 668 Appendix XI; Effective August 1, 2006.
As amended; Checklist 151.2 | April 30, 1996; 61 FR 19117 |
As amended; Checklist 151.3 | June 28, 1996; 61 FR 33680 |
As amended; Checklist 151.4 | July 10, 1996; 61 FR 36419 |
As amended; Checklist 151.5 | August 26, 1996; 61 FR 43924 |
As amended; Checklist 151.6 | February 19, 1997; 62 FR 7502 |
Imports and Exports of Hazardous Waste: Implementation of OECD Council Decision; Checklist 152 | April 12, 1996; 61 FR 16289 | NR 661.06, 662.010, 662.190, 662.053, 662.56, 662.058, 662.080, 662.081, 662.082, 662.083, 662.084, 662.085, 662.086, 662.087, 662.088, 662.089, 663.10, 663.20, 664.0012, 664.0071, 665.0012, 665.0071, 666.70, 673.20, 673.40, 673.56, 673.70; Effective August 1, 2006.
Hazardous Waste Treatment, Storage, and Disposal Facilities and Hazardous Waste Generators; Organic Air Emission Standards for Tanks, Surface Impoundments and Containers; Checklist 154 | November 25, 1996; 61 FR 59931 | NR 660.11, 661.06, 662.034, 662.192, 664.0013, 664.0015, 664.0073, 664.0077, 664.0179, 664.0200, 664.0232, 664.0601, 664.1030, 664.1033, 664.1034, 664.1035, 664.1050, 664.1055, 664.1058, 664.1064, 664.1080, 664.1081, 664.1082, 664.1083, 664.1084, 664.1085, 664.1086, 664.1087, 664.1088, 664.1089, 664.1090, 664.1091, 665.0001, 665.0013, 665.0015, 665.0073, 665.0077, 665.0178, 665.0202, 665.0231, 665.1030, 665.1033, 665.1034, 665.1035, 665.1050, 665.1055, 665.1058, 665.1064, 665.1080, 665.1081, 665.1082, 665.1083, 665.1084, 665.1085, 665.1086, 665.1087, 665.1088, 665.1089, 665.1090, 665.1091, 665 Appendix VI, 670.004, 670.014, 670.015, 670.016, 670.017, 670.027; Effective August 1, 2006.
As amended; Checklist 154.1 | December 6, 1994; 59 FR 62896 |
As amended; Checklist 154.2 | May 19, 1995; 60 FR 26828 |
As amended; Checklist 154.3 | September 29, 1995; 60 FR 50426 |
As amended; Checklist 154.4 | November 13, 1995; 60 FR 56952 |
As amended; Checklist 154.5 | February 9, 1996; 61 FR 4903 |
As amended; Checklist 154.6 | June 5, 1996; 61 FR 28508 |
Warfarin & Zinc Phosphide Listing; Checklist 7 | May 10, 1984; 49 FR 19922 | NR 661.33; Effective August 1, 2006.
Lime-Stabilized Pickle Liquor Sludge; Checklist 8 | June 5, 1984; 49 FR 23284 | NR 661.03; Effective August 1, 2006.
Household Waste; Checklist 9 | November 13, 1984; 49 FR 44978 | NR 661.04; Effective August 1, 2006.
Satellite Accumulation; Checklist 12 | December 20, 1984; 49 FR 49568 | NR 662.034, 662.192; Effective August 1, 2006.
Financial Responsibility; Settlement Agreement (Amendment to Checklist 24's Optional Designation of 264.113 and 265.113); Checklist 24A | June 26, 1990; 55 FR 25976 | NR 660.10, 664.0110, 664.0111, 664.0112, 664.0113, 664.0114, 664.0115, 664.0116, 664.0117, 664.0118, 664.0119, 664.0120, 664.0141, 664.0142, 664.0143, 664,0144, 664.0145, 664.0147, 664.0151, 665.0110, 665.0111, 665.0112, 665.0113, 665.0114, 665.0115, 665.0116, 665.0117, 665.0118, 665.0119, 665.0120, 665.0140, 665.0141, 665.0142, 665.0143, 665.0144, 665.0145, 665.0147, 670.014, 670.042, 670.072; Effective August 1, 2006.
Liability Requirements for Hazardous Waste Facilities; Corporate Guarantee; Checklist 43 | November 18, 1987; 52 FR 44314 | NR 664.0147, 664.0151, 665.0147; Effective August 1, 2006.
HSWA Codification Rule 2; Corrective Action for Injection Wells; 44C | December 1, 1987; 52 FR 45788 | NR 665.01, 670.060; Effective August 1, 2006.
Changes to Part 124 Not Accounted for by Present Checklists; Checklist 70 | January 4, 1989; 54 FR 246 | NR 670.403, 670.406, 670.405, 670.410, 670.412; Effective August 1, 2006.
Toxicity Characteristics Revisions (Correction 1); Checklist 74.1 | June 29, 1990; 55 FR 26986 | NR 661.04, 661.08, 661.24, 661.30, 261 Appendix II, 664.0301, 665.0221, 665.0273, 665 Appendix I; Effective August 1, 2006.
Burning of Hazardous Waste in Boilers and Industrial Furnaces; Checklist 85 | February 21, 1991; 56 FR 7134 | NR 660.10, 660.11, 661.02, 661.04, 261.06, 664.0112, 664.0340, 665.0112, 665.0113, 665.0340, 666.100, 666.101, 666.102, 666.103, 666.104, 666.105, 666.106, 666.107, 666.108, 666.109, 666.110, 666.111, 666.112, 266 Appendices I, II, III, IV, V, VI, VII, VIII, IX, and X, 670.022, 670.042/Appendix I, 670.066, 670.072, 670.073; Effective August 1, 2006.
Burning of Hazardous Waste in Boilers and Industrial Furnaces; Corrections and Technical Amendments I; Checklist 94 | July 17, 1991; 56 FR 32688 | NR 661.03, 661.06, 665.0370, 666.040, 666.100, 666.102, 666.103, 666.104, 666.106, 666.107, 666.108, 666.109, 666.110, 666.112, 666 Appendices I, II, III, IV, VII, VIII, IX and X, Appendix A to Appendix X, Appendix B to Appendix X, Appendix C to Appendix X, 670.022, 670.042, 670.066, 670.073; Effective August 1, 2006.
Burning of Hazardous Waste in Boilers and Industrial Furnaces; Corrections and Technical Amendments II; Checklist 96 | August 27, 1991; 56 FR 42504 | NR 661.02 665.0112, 665.0113, 666.100, 666.102, 666.103, 666.104, 666.108, 666.109, 666.110, 666.111, 666.112, 666 Appendix IX, Appendix XI, Appendix XII; Effective August 1, 2006.
Exports of Hazardous Waste; Technical Correction; Checklist 97 | September 4, 1991; 56 FR 43704 | NR 662.053, 662.190, 662.056; Effective August 1, 2006.
Burning of Hazardous Waste in Boilers and Industrial Furnaces; Technical Amendment III; Checklist 111 | August 25, 1992; 57 FR 38558 | NR 660.10, 660.20, 661.02, 664.0001, 665.0001, 666.100, 666.101, 666.103, 666.104, 666.106, 666.107, 666.108, 666.112, 666 Appendix IX; Effective August 1, 2006.
Burning of Hazardous Waste in Boilers and Industrial Furnaces; Amendment IV; Checklist 114 | September 30, 1992; 57 FR 44999 | NR 666.103, 666 Appendix IX; Effective August 1, 2006.
“Mixture” and “Derived-From” Rules; Response to Court Remand; Checklist 117A | March 3, 1992; 57 FR 7628 | NR 661.03; Effective August 1, 2006.
“Mixture” and “Derived-From” Rules; Technical Correction; Checklist 117A.1 | June 1, 1992; 57 FR 23062 | NR 661.03; Effective August 1, 2006.
“Mixture” and “Derived-From” Rules; Final Rule; Checklist 117A.2 | October 30, 1992; 57 FR 49278 | NR 661.03; Effective August 1, 2006.
Land Disposal Restrictions for ignitable and Corrosive Characteristic Wastes Whose Treatment Standards Were Vacated; Checklist 124 | May 24, 1993; 58 FR 29860 | NR 664.0001, 665.0001, 668.01, 668.02, 668.07, 668.09, 668.37, 668.40, 668.41, 668.42, 668.43, 670.042; Effective August 1, 2006.
Requirements for Preparation, Adoption and Submittal of Implementation Plans; Checklist 125 | July 20, 1993; 58 FR 38816 | NR 660.11, 666.104, 666.106, 666 Appendix X; Effective August 1, 2006.
Burning of Hazardous Waste in Boilers and Industrial Furnaces; Checklist 127 | November 9, 1993; 58 FR 59598 | NR 666.112, 266 Appendix VII; Effective August 1, 2006.
Recordkeeping Instructions; Checklist 131 | March 24, 1994; 59 FR 13891 | NR 664 Appendix I/Table I & II, 665 Appendix I/Table I & II; Effective August 1, 2006.
Solid Waste, Hazardous Waste, Oil Discharge and Superfund Programs; Removal of Legally Obsolete Rules; Checklist 144 | June 29, 1995; 60 FR 33912 | NR 661.31, 666.103, 666.104, 670.002, 670.010; Effective August 1, 2006.
Criteria for Classification of Solid Waste Disposal Facilities and Practices; Identification and Listing of Hazardous Waste; Requirements for Authorization of State Hazardous Waste Programs; Checklist 153 | July 1, 1996; 61 FR 34252 | NR 661.05; Effective August 1, 2006.
Land Disposal Restrictions Phase III—Emergency Extension of the K088 Capacity Variance; Checklist 155 | January 14, 1997; 62 FR 1992 | NR 668.39; Effective August 1, 2006.
Military Munitions Rule: Hazardous Waste Identification and Management; Explosives Emergencies; Manifest Exemption for Transport of Hazardous Waste on Right-of-Ways on Contiguous Properties; Checklist 156 | February 12, 1997; 62 FR 6622 | NR 660.10, 661.02, 662.010, 662.190, 662.020, 662.191, 663.10, 664.0001, 664.0070, 664.1200, 664.1201, 664.1202, 665.0001, 665.0070, 665.1200, 665.1201, 665.1202, 666.200, 666.201, 666.202, 666.203, 666.204, 666.205, 666.206, 670.001, 670.042; Effective August 1, 2006.
Land Disposal Restrictions—Phase IV: Treatment Standards for Wood Preserving Wastes, Paperwork Reduction and Streamlining, Exemptions from RCRA for Certain Processed Materials; and Miscellaneous Hazardous Waste Provisions; Checklist 157 | May 12, 1997; 62 FR 25998 | NR 661.01, 661.02, 661.04, 661.06, 668.01, 668.04, 668.07, 668.09, 668.30, 668.40, 668.42, 668.44, 668 Appendix VI, VII, VIII; Effective August 1, 2006.
Hazardous Waste Management System; Testing and Monitoring Activities; Checklist 158 | June 13, 1997; 62 FR 32452 | NR 660.11, 664.1034, 664.1063, 664 Appendix IX, 665.1034, 665.1063, 666.104, 666.106, 266.107, 266 Appendix IX; Effective August 1, 2006.
Hazardous Waste Management System; Carbamate Production, Identification and Listing of Hazardous Waste; Land Disposal Restrictions; Checklist 159 | June 17, 1997; 62 FR 32974 | NR 661.32/table, 661.33, 661 Appendix VII and VIII, 668.39, 668.40/table; Effective August 1, 2006.
Land Disposal Restrictions Phase III—Emergency Extension of the K088 National Capacity Variance; Checklist 160 | July 14, 1997; 62 FR 37694 | NR 668.39; Effective August 1, 2006.
Second Emergency Revision of the Land Disposal Restrictions (LDR) Treatment Standards for Listed Hazardous Waste From Carbamate Production; Checklist 161 | August 28, 1997; 62 FR 45568 | NR 668.40, 668.48; Effective August 1, 2006.
Clarification of Standards for Hazardous Waste LDR Treatment Variances; Checklist 162 | December 5, 1997; 62 FR 64504 | NR 668.44; Effective August 1, 2006.
Organic Air Emissions Standards for Tanks, Surface Impoundments, and Containers; Clarification and Technical Amendment; Checklist 163 | December 8, 1997; 62 FR 64636 | NR 664.0015, 664.0073, 664.1030, 664.1031, 664.1033, 664.1050, 664.1060, 664.1062, 664.1064, 664.1080, 664.1082, 664.1083, 664.1084, 664.1085, 664.1086, 664.1087, 664.1089, 665.0015, 665.0073, 665.1030, 665.1033, 665.1050, 665.1060, 665.1062, 665.1064, 665.1080, 665.1081, 665.1082, 665.1083, 665.1084, 665.1085, 665.1086, 665.1087, 665.1088, 665.1090, 670.014; Effective August 1, 2006.
Kraft Mill Steam Stripper Condensate Exclusion; Checklist 164 | April 15, 1998; 63 FR 18504 | NR 661.04; Effective August 1, 2006.
Recycled Used Oil Management Standards; Technical Correction and Clarification; Checklist 166 | May 6, 1998; 63 FR 24963 | NR 661.05, 661.06, 679.10, 679.22, 679.45, 679.54, 679.64, 679.74; Effective August 1, 2006
As amended; Checklist 166.1 | July 14, 1998; 63 FR 37780 |
Land Disposal Restrictions Phase IV—Treatment Standards for Metal Wastes and Mineral Processing Wastes; Checklist 167A | May 26, 1998; 63 FR 28556 | NR 668.02, 668.03, 668.34, 668.40, 668.48; Effective August 1, 2006.
Land Disposal Restrictions Phase IV—Hazardous Soils Treatment Standards and Exclusions; Checklist 167B | May 26, 1998; 63 FR 28556 | NR 668.02, 668.07, 668.44, 668.49; Effective August 1, 2006.
Land Disposal Restrictions Phase IV—Corrections; Checklist 167C | May 26, 1998; 63 FR 28556 | NR 668.04, 668.07, 668.40, 668.42, 668.45, 668.48, 668 Appendix VII/Table 1, Appendix VII/Table 2, Appendix VIII; Effective August 1, 2006.
As amended; Checklist 167C.1 | June 8, 1998; 63 FR 31266 |
Mineral Processing Secondary Materials Exclusion; Checklist 167D | May 26, 1998; 63 FR 58556 | NR 661.02, 661.03, 661.04; Effective August 1, 2006.
Bevill Exclusion Revisions and Clarification; checklist 167E | May 26, 1998; 63 FR 28556 | NR 661.03, 661.04; Effective August 1, 2006.
Exclusion of Recycled Wood Preserving Wastewasters; Checklist 167F | May 26, 1998; 63 FR 28556 | NR 261.04; Effective August 1, 2006.
Hazardous Waste Combustors Revised Standards; Checklist 168 | June 19, 1998; 63 FR 33782 | NR 661.04, 661.38, 670.042, 670.072; Effective August 1, 2006.
Petroleum Refining Process; Checklist 169 | August 6, 1998; 63 FR 42110 | NR 661.03, 661.04, 661.06, 661.31, 661.32, 261, 668.35, 668.40 Appendix VII; Effective August 1, 2006.
Land Disposal Restrictions—Phase IV; Checklist 170 | August 31, 1998; 63 FR 46332 | NR 668.40; Effective August 1, 2006.
Emergency Revisions of LDR Treatment Standards; Checklist 171 | September 4, 1998; 63 FR 47409 | NR 668.40, 668.48; Effective August 1, 2006.
Emergency Revisions of LDR Treatment Standards; Checklist 172 | September 9, 1998; 63 FR 48124 | NR 668.34; Effective August 1, 2006.
Land Disposal Restrictions Treatment Standards (Spent Potliners); Checklist 173 | September 24, 1998; 63 FR 51254 | NR 668.39, 668.40; Effective August 1, 2006.
Standards Applicable to Owners/Operators of Closed and Closing Hazardous Waste Management Facilities: Post-Closure Permit Requirement and Closure Process; Checklist 174 | October 22, 1998; 63 FR 56710 | NR 664.0090, 664.0110, 664.0112, 664.0118, 664.0140, 665.0090, 665.0110, 665.0112, 665.0118, 665.0121, 665.0140, 670.001, 670.014, 670.028; Effective August 1, 2008.
Hazardous Remediation Waste Management Requirements; Checklist 175 | November 30, 1998; 63 FR 65874 | NR 660.10, 661.04, 664.0001, 664.0073, 664.0101, 664.0552, 664.0553, 664.0554, 665.0001, 668.02, 668.50, 670.002, 670.011, 670.042, 670.068, 670.073, 670.079, 670.080, 670.085, 670.090, 670.095, 670.100, 670.105, 670.110, 670.115, 670.120, 670.125, 670.130, 670.135, 670.140, 670.145, 670.150, 670.155, 670.160, 670.165, 670.170, 670.175, 670.180, 670.185, 670.190, 670.195, 670.200, 670.205, 670.210, 670.215, 670.220, 670.225, 670.230; Effective August 1, 2006.
Universal Waste Rule Technical Amendment; Checklist 176 | December 24, 1998; 63 FR 71225 | NR 666.80, 673.06; Effective August 1, 2006.
Organic Air Emission Standards; Checklist 177 | January 21, 1999; 64 FR 3381 | NR 662.034, 662.192, 664.1031, 664.1080, 664.1083, 664.1084, 664.1086, 665.1080, 665.1084, 665.1085, 665.1087; Effective August 1, 2006.
Petroleum Refining Process Wastes; Checklist 178 | February 11, 1999; 64 FR 6806 | NR 661.04; Effective August 1, 2006.
Land Disposal Restrictions Phase IV—Technical Corrections and Clarifications to Treatment Standards; Checklist 179 | May 11, 1999; 64 FR 25408 | NR 661.02, 661.04, 662.034, 662.192, 668.02, 668.07, 668.09, 668.40, 668.48, 668.49; Effective August 1, 2006.
Guidelines Establishing Test Procedures for the Anaylysis of Oil and Grease and Non-Polar Material Under the CWA and RCRA; Checklist 180 | May 14, 1999; 64 FR 26315 | NR 660.11; Effective August 1, 2006.
Universal Waste: Lamp Rule; Checklist 181 | July 6, 1999; 64 FR 36466 | NR 660.10, 661.09, 664.0001, 665.0001, 668.01, 670.001, 673.01, 673.02, 673.03, 673.04, 673.05, 673.06, 673.07, 673.08, 673.09, 673.10, 673.13, 673.14, 673.30, 673.32, 673.33, 673.34, 673.50, 673.60, 673.81; Effective August 1, 2006.
NESHAPS: Final Standards for Hazardous Air Pollutants for Hazardous Waste Combustors; Checklist 182 | September 30, 1999; 64 FR 52827 | NR 660.10, 661.38, 664.0340, 664.0601, 665.0340, 666.100, 666.101, 666.105, 666.112, 266 Appendix VIII, 670.019, 670.022, 670.042, 670.062, 670.066; Effective August 1, 2006.
As amended; Checklist 182.1 | November 19, 1999; 64 FR 63209 |
Land Disposal Restrictions; Wood Preserving Wastes, Metal Wastes, Zinc Micronutrients Fertilizer, etc.; Corrections; Checklist 183 | October 20, 1999; 64 FR 56469 | NR 661.32, 662.034, 662.192, 668.07, 668.40, 668.49; Effective August 1, 2006.
Wastewater Treatment Sludges from the Metal Finishing Industry; 180 Day Accumulation Time; Checklist 184 | March 8, 2000; 65 FR 12378 | NR 662.034, 662.192; Effective August 1, 2006.
Organobromine Production Wastes; Checklist 185 | March 17, 2000; 65 FR 14472 | NR 661.32 Table, 661.33 Table, 661 Appendix VII and VIII, 668.40, 668.48; Effective August 1, 2006.
Organobromine Production Waste and Petroleum Refining Process Waste—Clarification; Checklist 187 | June 8, 2000; 65 FR 36365 | NR 661.31, 668 Appendix VII; Effective August 1, 2006.
NESHAPS: Final Standards for Hazardous Air Pollutants for Hazardous Waste Combustors; Technical Corrections; Checklist 188 | July 10, 2000; 65 FR 42292 | NR 661.38, 664.0340, 670.042; Effective August 1, 2006.
As amended; Checklist 188.1 | May 14, 2001; 66 FR 24270 |
As amended; Checklist 188.2 | July 3, 2001; 66 FR 35087 |
Hazardous Waste Management System; Identification and Listing of Hazardous Waste; Chlorinated Aliphatics Production Wastes; Land Disposal Restrictions for Newly Identified Wastes; and CERCLA Hazardous Substance Designation and Reportable Quantities; Checklist 189 | November 8, 2000; 65 FR 67068 | NR 661.32, 661 Appendix VII and VIII, 668.33, 668.40, 668.48; Effective August 1, 2006.
Deferral of Phase IV Standards for PCBs as a Constituent Subject to Treatment in Soil; Checklist 190 | December 26, 2000; 65 FR 81373 | NR 668.32, 668.48, 668.49, 668 Appendix III; Effective August 1, 2006.
Storage, Treatment, Transportation, and Disposal of Mixed Waste; Checklist 191 | May 16, 2001; 66 FR 27218 | NR 666.210, 666.220, 666.225, 666.230, 666.235, 666.240, 666.245, 666.250, 666.255, 666.260, 666.305, 666.310, 666.315, 666.320, 666.325, 666.330, 666.335, 666.340, 666.345, 666.350, 666.355, 666.360; Effective August 1, 2006.
Mixture and Derived-From Rule Revisions; Checklist 192A | May 16, 2001; 66 FR 27266 | NR 661.03; Effective August 1, 2006.
Land Disposal Restrictions Correction; Checklist 192B | May 16, 2001; 66 FR 27266 | NR 268 Appendix VII/Table 1; Effective August 1, 2006.
Change of EPA Mailing Address; Checklist 193 | June 28, 2001; 66 FR 34374 | NR 660.11; Effective August 1, 2006.
Correction to the Hazardous Waste Identification Rule (HWIR): Revisions to the Mixture and Derived-From Rules; Checklist 194 | October 3, 2001; 66 FR 50332 | NR 661.03; Effective August 1, 2006.
Inorganic Chemical Manufacturing Wastes Identification and Listing; Checklist 195 | November 20, 2001; 66 FR 58258 | NR 661.04, 661.32, 661 Appendix VII, 668.36, 668.40 Table; Effective August 1, 2006.
As amended 195.1 | April 9, 2002; 67 FR 17119 |
CAMU Amendments; Checklist 196 | January 22, 2002; 67 FR 2962 | NR 660.10, 664.0550, 664.0551, 664.0552, 664.0554, 664.0555; Effective August 1, 2006.
Hazardous Air Pollutant Standards for Combustors Interim Standards; Checklist 197 | February 13, 2002; 67 FR 6792 | NR 664.0340, 665.0340, 666.100, 670.019, 670.022, 670.062, 670.066, 670.235; Effective August 1, 2006.
Hazardous Air Pollutant Standards for Combustors; Corrections; Checklist 198 | February 14, 2002; 67 FR 6968 | NR 666.100, 670.042; Effective August 1, 2006.
Vacatur of Mineral Processing Spent Materials Being Reclaimed as Solid Wastes and TCLP Used with MGP Waste; Checklist 199 | March 13, 2002; 67 FR 11251 | NR 661.02, 661.04, 661.24; Effective August 1, 2006.
Zinc Fertilizers Made From Recycled Hazardous Secondary Materials; Checklist 200 | July 24, 2002; 67 FR 48393 | NR 661.04, 666.020, 668.40; Effective August 1, 2006.
Land Disposal Restrictions: National Treatment Variance to Designate New Treatment Subcategories for Radioactively Contaminated Cadmium-, Mercury-, and Silver-Containing Batteries; Checklist 201 | October 7, 2002; 67 FR 62618 | NR 668.40/Table; Effective August 1, 2006.
NESHAP: Standards for Hazardous Air Pollutants for Hazardous Waste Combustors—Corrections; Checklist 202 | December 19, 2002; 67 FR 77687 | NR 670.019, 670.022, 670.062, 670.066; Effective August 1, 2006.
Hazardous Waste System; Modification of the Hazardous Waste Manifest System; Final Rule; Checklist 207 | March 4, 2005; 70 FR 10776 | NR 660.10, 661.07, 662.020, 662.191, 662.021, 662.190, 662.027, 662.032, 662.033, 662.034, 662.192, 662.054, 662.60, 662 Appendix, 662 Appendix/8700-22, 662 Appendix/8700-22A, 663.20, 663.21, 664.0070, 664.0071, 664.0072, 664.0076, 665.0070, 665.0071, 665.0072, 665.0076; Effective April 1, 2007.
As amended; Checklist 207.1 | June 16, 2005; 70 FR 35034 |

G. Where Are the Revised State Rules Different From the Federal Rules?

These practices are prohibited in Wisconsin: Underground Injection (40 CFR part 144), and Land Treatment (40 CFR 270.20). Wisconsin also does not provide for Permit by Rule (40 CFR 270.60). Wisconsin does not allow automatic authorization under the permit modification regulations found in 40 CFR 270.42(b)(6). The 10 year Remedial Action Plan, or RAP (40 CFR 270.79 et seq.) is replaced by a 5 year Remediation Variance (NR670.079).

These Wisconsin regulations are more stringent: 662.220(5)(c,d), 662.220(6)(c,d,f), and 670.030 (annual report required instead of a biennial report).

Wisconsin maintains different financial regulations, that allow for additional equivalent financial mechanisms (664.0143), do not allow the net worth test for closure under Part 665, and maintain some more stringent insurance requirements under 664.0143(5)(h), 664.0147(1)(a)(3), and 665.0147(1)(a)(3).

The following Wisconsin regulations have no Federal Counterpart: 666.081, 666.900 through 666.910, and 673.11. On the converse, there are no Wisconsin provisions for 40 CFR 268.5, 268.44 (other than 268.44(h)), and 270.3 as these are Federal non-delegable provisions.

H. Who Handles Permits After the Authorization Takes Effect?

Wisconsin will issue permits for all the provisions for which it is authorized and will administer the permits it issues. EPA will continue to administer any RCRA hazardous waste permits or portions of permits which we issued prior to the effective date of this authorization until they expire or are terminated. We will not issue any more new permits or new portions of permits for the provisions listed in the Table above after the effective date of this authorization. EPA will continue to implement and issue permits for HSWA requirements for which Wisconsin is not yet authorized.

I. How Does This Action Affect Indian Country (18 U.S.C. 1151) in Wisconsin?

Wisconsin is not authorized to carry out its hazardous waste program in “Indian Country,” as defined in 18 U.S.C. 1151. Indian Country includes:

1. All lands within the exterior boundaries of Indian reservations within the State of Wisconsin;

2. Any land held in trust by the U.S. for an Indian tribe; and

3. Any other land, whether on or off an Indian reservation that qualifies as Indian Country.

Therefore, this action has no effect on Indian Country. EPA will continue to implement and administer the RCRA program in Indian Country.

J. What Is Codification and Is EPA Codifying Wisconsin's Hazardous Waste Program as Authorized in This Rule?

Codification is the process of placing the State's statutes and regulations that comprise the State's authorized hazardous waste program into the Code of Federal Regulations. We do this by referencing the authorized State rules in 40 CFR part 272. Wisconsin's rules, up to and including those revised June 7, 1991, as corrected August 19, 1991, have previously been codified through the incorporation-by-reference effective February 4, 1992 (57 FR 4162) . We reserve the amendment of 40 CFR part 272, subpart KK for the codification of Wisconsin's program changes until a later date.

K. Statutory and Executive Order Reviews

This proposed rule only authorizes hazardous waste requirements pursuant to RCRA 3006 and imposes no requirements other than those imposed by State law (see Supplementary Information, Section A. Why are Revisions to State Programs Necessary?). Therefore this rule complies with applicable executive orders and statutory provisions as follows:

1. Executive Order 18266: Regulatory Planning Review

The Office of Management and Budget has exempted this rule from its review under Executive Order 12866 (58 FR 51735, October 4, 1993).

2. Paperwork Reduction Act

This rule does not impose an information collection burden under the provisions of the Paperwork Reduction Act of 1995 (44 U.S.C. 3501 et seq.).

3. Regulatory Flexibility Act

After considering the economic impacts of today's rule on small entities under the Regulatory Flexibility Act (5 U.S.C. 601 et seq.), I certify that this rule will not have a significant economic impact on a substantial number of small entities.

4. Unfunded Mandates Reform Act

Because this rule approves pre-existing requirements under State law and does not impose any additional enforceable duty beyond that required by State law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have tribal implications (i.e., substantial direct effects on one or more Indian tribes, or on the relationship between the Federal Government and Indian tribes, or on the distribution of power and responsibilities between the Federal Government and Indian tribes.)

7. Executive Order 13045: Protection of Children From Environmental Health and Safety Risks

This rule is not subject to Executive Order 13045 (62 FR 19885, April 23, 1997), because it is not economically significant as defined in Executive Order 12866 and because the EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions To Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act as amended 42 U.S.C. 6912(a), 6926, 6974(b).

Dated: October 23, 2008.
Walter W. Kovalick, Jr.
Acting Regional Administrator, United States Environmental Protection Agency, Region 5.

[FR Doc. E8-27971 Filed 11-24-08; 8:45 am]

BILLING CODE 6560-50-P